DEPARTMENT OF COMMERCE

National Oceanic and Atmospheric Administration

RIN 0648-XD075

Endangered Species; File No. 18136

AGENCY: National Marine Fisheries Service (NMFS), National Oceanic and Atmospheric Administration (NOAA), Commerce.

ACTION: Notice; receipt of application for a permit modification.

SUMMARY: Notice is hereby given that Larry Wood, LDWood BioConsulting, Inc., 425 Kennedy Street, Jupiter, FL 33468, has requested a modification to scientific research Permit No. 18136.

DATES: Written, telefaxed, or email comments must be received on or before March 5, 2015.

ADDRESSES: The modification request and related documents are available for review by selecting “Records Open for Public Comment” from the Features box on the Applications and Permits for Protected Species (APPS) home page, https://apps.nmfs.noaa.gov/, and then selecting File No. 18136 Mod 1 from the list of available applications. These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Amy Hapeman or Brendan Hurley, (301) 427-8401.

SUPPLEMENTARY INFORMATION: The subject modification to Permit No. 18136, issued on December 16, 2014 (79 FR 74712) is requested under the authority of the Endangered Species Act of 1973, as amended (16 U.S.C. 1531 et seq.) and the regulations governing the taking, importing, and exporting of endangered and threatened species (50 CFR 222-226).

Permit No. 18136 authorizes the permit holder to continue to describe the abundance and movements of an aggregation of hawksbill sea turtles (Eretmochelys imbricata) found on the barrier reefs of southeast Florida. Up to 50 sea turtles may be approached during dives for observation and photographs annually. Up to 25 additional animals may be hand captured, measured, flipper and passive integrated transponder tagged, photographed, tissue sampled, and released annually. In addition, up to six sub-adult and six adult hawksbills maybe captured for the above procedures and fitted with a satellite transmitter prior to their release. The permit is valid through September 30, 2019. The permit holder requests authorization to expand the study area to include the waters of Miami-Dade and Monroe Counties. No other changes to the permit are requested.

Dated: January 28, 2015.
Julia Harrison,
Chief, Permits and Conservation Division, Office of Protected Resources, National Marine Fisheries Service.

[FR Doc. 2015-02054 Filed 2-2-15; 8:45 am]

BILLING CODE 3510-22-P